SMALL BUSINESS ADMINISTRATION

[Declaration of Disaster #3428]

State of Texas; Disaster Loan Areas

As a result of the President's major disaster declaration on July 4, 2002, I find that Bexar, Blanco, Comal, Hays, Kerr and Medina Counties in the State of Texas constitute a disaster area due to damages caused by severe storms and flooding occurring on June 29, 2002 and continuing. Applications for loans for physical damage as a result of this disaster may be filed until the close of business on September 2, 2002 and for economic injury until the close of business on April 4, 2003 at the address listed below or other locally announced locations:

U.S. Small Business Administration, Disaster Area 3 Office, 4400 Amon Carter Blvd., Suite 102, Fort Worth, TX 76155

In addition, applications for economic injury loans from small businesses located in the following contiguous counties may be filed until the specified date at the above location: Atascosa, Bandera, Burnet, Caldwell, Edwards, Frio, Gillespie, Guadalupe, Kendall, Kimble, Llano, Real, Travis, Uvalde, Wilson and Zavala in the State of Texas.

The interest rates are:

| Percent
For Physical Damage:
Homeowners with Credit available elsewhere | 6.750
Homeowners without Credit available elsewhere | 3.375
Businesses with Credit available elsewhere | 7.000
Businesses and non-profit organizations without credit available elsewhere | 3.500
Others (including non-profit organizations) with credit available elsewhere | 6.375
For Economic Injury:
Businesses and small agricultural cooperatives without credit available elsewhere | 3.500

The number assigned to this disaster for physical damage is 342811. For economic injury the number is 9Q4900.

(Catalog of Federal Domestic Assistance Program Nos. 59002 and 59008)
Dated: July 5, 2002.
S. George Camp,
Acting Associate Administrator for Disaster Assistance.

[FR Doc. 02-17466 Filed 7-10-02; 8:45 am]

BILLING CODE 8025-01-P